DEPARTMENT OF COMMERCE

International Trade Administration

[A-580-809]

Circular Welded Non-Alloy Steel Pipe From the Republic of Korea: Final Results of Antidumping Duty Administrative Review; 2011-2012

AGENCY: Enforcement and Compliance, International Trade Administration, Department of Commerce.

SUMMARY: On December 26, 2013, the Department of Commerce (the Department) published the preliminary results of its administrative review of the antidumping duty order on circular welded non-alloy steel pipe (CWP) from the Republic of Korea (Korea) for the period November 1, 2011, through October 31, 2012.¹ As a result of our analysis of the comments received, these final result differ from our Preliminary Results. For these final results, we find the subject merchandise has been sold at prices less than normal value.

¹ See Circular Welded Non-Alloy Steel Pipe From the Republic of Korea: Preliminary Results and Partial Rescission of Antidumping Duty Administrative Review; 2011-2012, 78 FR 78336 (December 26, 2013) (Preliminary Results).

DATES: Effective Date: July 1, 2014.

FOR FURTHER INFORMATION CONTACT: Mary Kolberg or Jennifer Meek, AD/CVD Operations, Office I, Enforcement and Compliance, International Trade Administration, U.S. Department of Commerce, 14th Street and Constitution Avenue NW., Washington DC 20230; telephone (202) 482-1785 or (202) 482-2778, respectively.

Background

Following the Preliminary Results, from January 20 through 24, 2014, the Department conducted a verification of Husteel Co. Ltd.'s (Husteel) sales questionnaire responses.

On April 7, 2014, the Department issued a memorandum extending the time period for issuing the final results of this administrative review from April 25, 2014 to June 24, 2014, as permitted by section 751(a)(3)(A) of the Tariff Act of 1930, as amended (the Act) and 19 CFR 351.213(h)(2).²

² See Memorandum from Mary Kolberg, to Gary Taverman, Senior Advisor for Antidumping and Countervailing Duty Operations entitled “Circular Welded Non-Alloy Steel Pipe from the Republic of Korea: Extension of Time Limit for Final Results of Antidumping Duty Administrative Review.

We received case briefs from Wheatland Tube Company (Wheatland) and Hyundai HYSCO (HYSCO) on May 9, 2014. On May 14, 2014, Husteel, Wheatland and the United States Steel Corporation (U.S. Steel) each submitted rebuttal briefs. We rejected Husteel's and U.S. Steel's rebuttal briefs on June 4, 2014 because each contained new factual information. Husteel and U.S. Steel each resubmitted rebuttal briefs without the new factual information on June 5, 2014 and June 6, 2014, respectively.

Scope of the Order

The merchandise subject to the order is circular welded non-alloy steel pipe and tube. The product is currently classified under the following Harmonized Tariff Schedule of the United States (HTSUS) subheadings: 7306.30.10.00, 7306.30.50.25, 7306.30.50.32, 7306.30.50.40, 7306.30.50.55, 7306.30.50.85, and 7306.30.50.90. Although the HTSUS numbers are provided for convenience and customs purposes, the written product description remains dispositive.

A full description of the scope of the order is contained in the memorandum from James Maeder, Director, Office II, Antidumping and Countervailing Duty Operations to Paul Piquado, Assistant Secretary for Enforcement and Compliance, “Issues and Decision Memorandum for the 2011-2012 Administrative Review of Circular Welded Non-Alloy Steel Pipe from the Republic of Korea,” dated concurrently with this notice (Issues and Decision Memorandum), and which is hereby adopted by this notice.

Analysis of Comments Received

All issues raised in the parties' briefs are addressed in the Issues and Decision Memorandum. A list of the issues raised is attached to this notice as an Appendix. The Issues and Decision Memorandum is a public document and is on file electronically via Enforcement and Compliance's Antidumping and Countervailing Duty Centralized Electronic Service System (IA ACCESS). IA ACCESS is available to registered users at http://iaaccess.trade.gov and it is available to all parties in the Central Records Unit, Room 7046 of the main Department of Commerce building. In addition, a complete version of the Issues and Decision Memorandum can be accessed directly on the internet at http://enforcement.trade.gov/frn/. The signed Issues and Decision Memorandum and the electronic versions of the Issues and Decision Memorandum are identical in content.

Changes From the Preliminary Results

Based on our analysis of the comments received from interested parties, we made certain adjustments to Husteel's costs.³ We also incorporated the minor corrections to Husteel's U.S. sales presented by Husteel at verification.⁴

³ See Comment 1 of the Issues and Decision Memorandum.

⁴ See Memorandum to The File from Jennifer Meek, International Trade Compliance Analyst, Enforcement and Compliance Office I, “Circular Welded Non-Alloy Steel Pipe from the Republic of Korea: Final Calculation Memorandum for Husteel Co., Ltd.” (June 24, 2014).

Final Results of the Review

As a result of this review, we determine that the following weighted-average dumping margins exist for the period November 1, 2011, through October 31, 2012:

Producer/exporter | Weighted-average dumping margin (percent)
Husteel Co., Ltd. | 0.59
Hyundai HYSCO | 3.39

Disclosure

We will disclose the calculations used in our analysis to parties to these proceedings within five days of the date of the release of this notice pursuant to 19 CFR 351.224(b).

Assessment Rates

Pursuant to section 751(a)(2)(A) of the Act, and 19 CFR 351.212(b), the Department determines, and U.S. Customs and Border Protection (CBP) shall assess, antidumping duties on all appropriate entries of subject merchandise in accordance with the final results of this review. The Department intends to issue assessment instructions to CBP 15 days after the date of publication of these final results of review.

For assessment purposes, Husteel and HYSCO reported the name of the importer of record and the entered value for all of their sales to the United States during the period of review (POR). Accordingly, for each respondent, we calculated importer-specific ad valorem antidumping duty assessment rates on the basis of the ratio of the total amount of dumping calculated for the importer's examined sales and the total entered value of those same sales in accordance with 19 CFR 351.212(b)(1). Where an importer-specific assessment rate is zero or de minimis (i.e., less than 0.5 percent), we will instruct CBP to liquidate the appropriate entries without regard to antidumping duties in accordance with 19 CFR 351.106(c)(2).

The Department clarified its “automatic assessment” regulation on May 6, 2003. This clarification will apply to entries of subject merchandise during the POR produced by Husteel and HYSCO for which they did not know were destined for the United States. In such instances, we will instruct CBP to liquidate unreviewed entries at the all-others rate if there is no rate for the intermediate company(ies) involved in the transaction. For a full discussion of this clarification, see Antidumping and Countervailing Duty Proceedings: Assessment of Antidumping Duties, 68 FR 23954 (May 6, 2003).

Cash Deposit Requirements

The following deposit requirements will be effective upon publication of the notice of final results of administrative review for all shipments of subject merchandise entered or withdrawn from warehouse, for consumption, on or after the date of publication as provided by section 751(a)(2)(C) of the Act: (1) The cash deposit rate for Husteel and HYSCO will be equal to the respective weighted-average dumping margin established in the final results of this review; (2) for merchandise exported by manufacturers or exporters not covered in this review but covered in a prior segment of the proceeding, the cash deposit rate will continue to be the company-specific rate published for the most recently completed segment of this proceeding in which that manufacturer or exporter participated; (3) if the exporter is not a firm covered in this review, a prior review, or the original investigation but the manufacturer is, the cash deposit rate will be the rate established for the most recently completed segment of this proceeding for the manufacturer of subject merchandise; and (4) the cash deposit rate for all other manufacturers or exporters will continue to be 4.80 percent, the “all others” rate established pursuant to a court decision.⁵ These cash deposit requirements, when imposed, shall remain in effect until further notice.

⁵ See Circular Welded Non-Alloy Steel Pipe From Korea: Notice of Final Court Decision and Amended Final Determination, 60 FR 55833 (November 3, 1995).

Notification to Importers Regarding the Reimbursement of Duties

This notice serves as a final reminder to importers of their responsibility under 19 CFR 351.402(f)(2) to file a certificate regarding the reimbursement of antidumping duties prior to liquidation of the relevant entries during this review period. Failure to comply with this requirement could result in the Department's presumption that reimbursement of antidumping duties occurred and the subsequent assessment of doubled antidumping duties.

Administrative Protective Order

This notice also serves as a reminder to parties subject to administrative protective order (APO) of their responsibility concerning the disposition of proprietary information disclosed under APO in accordance with 19 CFR 351.305(a)(3), which continues to govern business proprietary information in this segment of the proceeding. Timely written notification of the return or destruction of APO materials, or conversion to judicial protective order, is hereby requested. Failure to comply with the regulations and the terms of an APO is a sanctionable violation.

Notification to Interested Parties

These final results of administrative review are issued and published in accordance with sections 751(a)(1) and 777(i)(1) of the Act.

Dated: June 24, 2014.
Paul Piquado,
Assistant Secretary for Enforcement and Compliance.

Appendix

List of Issues Discussed in the Issues and Decision Memorandum

Comment 1: Cost Reallocation—Husteel

Comment 2: General and Administrative Expenses, Rental Income Offset—Husteel

Comment 3: General and Administrative Expenses, Miscellaneous Income Offset—Husteel

Comment 4: General and Administrative Expenses, Litigation Accrual—HYSCO

Comment 5: Capping of Interest Revenue—HYSCO

Comment 6: Consideration of an Alternative Comparison Method in an Administrative Review

Comment 7: Application of a Differential Pricing Analysis

Comment 8: Denial of Offsets for Non-Dumped Sales With the Average-to-Transaction Method

Comment 9: Withdrawal of the Regulations Governing Targeted Dumping in Less-Than-Fair-Value Investigations

[FR Doc. 2014-15418 Filed 6-30-14; 8:45 am]

BILLING CODE 3510-DS-P